DEPARTMENT OF HEALTH AND HUMAN SERVICES

National Institutes of Health

Eunice Kennedy Shriver National Institute of Child Health & Human Development; Amended Notice of Meeting

Notice is hereby given of a change in the meeting of the National Advisory Child Health and Human Development Council, September 21, 2009, 8 a.m. to September 21, 2009, 5 p.m., National Institutes of Health, Building 31, 31 Center Drive, Bethesda, MD 20892 which was published in the Federal Register on September 1, 2009, 74 FR 54224.

This notice is being amended to provide additional attendee viewing and Videocast access instructions for open session of Council. In order to facilitate public attendance at the open session of Council, reserve seating will be made available to the first five individuals reserving seats in the main meeting room, Conference Room 6. Please Contact Ms. Lisa Kaeser, Program and Public Liaison Office, NICHD, at 301-496-0536 to make your reservation. Additional seating will be available in the meeting overflow rooms, Conference Rooms 7 and 8. Individuals will also be able to view the meeting via NIH Videocast. Please go to the following link for Videocast access instructions at: http://www.nichd.nih.gov/about/overview/advisory/nachhd/virtual-meeting-200910.cfm. The meeting is partially closed to the public.

Dated: September 3, 2009.
Jennifer Spaeth,
Director, Office of Federal Advisory Committee Policy.

[FR Doc. E9-21998 Filed 9-11-09; 8:45 am]

BILLING CODE 4140-01-P